DEPARTMENT OF TRANSPORTATION

Federal Highway Administration

Environmental Impact Statement; Rock Island County, IL, and Scott County, IA

AGENCY: Federal Highway Administration (FHWA), DOT.

ACTION: Notice of intent.

SUMMARY: The FHWA is issuing this notice to advise the public that an environmental impact statement will be prepared for a proposed highway improvement in Rock Island County, Illinois, and Scott County, Iowa.

FOR FURTHER INFORMATION CONTACT: Manu M. Chacko, Transportation Engineer, FHWA, 105 6th Street, Ames, IA 50010-6337, (515) 233-7307. James P. Rost, Director, Office of Environmental Services, Iowa Department of Transportation, 800 Lincoln Way, Ames, IA 50010, (515) 239-1798.

SUPPLEMENTARY INFORMATION:

Electronic Access

An electronic copy of this document may be downloaded using a modem and suitable communications software from the Government Printing Office's Electronic Bulletin Board Service at (202) 512-1661. Internet users may reach the Federal Register's home page at: http://www.nara.gov/fedreg and the Government Printing Office's database at: http://www.access.gpo.gov/nara.

Background

The FHWA, in cooperation with the Iowa and Illinois Departments of Transportation, will prepare an environmental impact statement (EIS) on a proposal to improve capacity and safety in the I-74 corridor between 23rd Avenue in Moline, Illinois, and 53rd Street in Bettendorf, Iowa. This corridor, which includes a crossing of the Mississippi River, is approximately 9.7 km (6 miles) long. Within the project limits, the I-74 corridor includes three interchanges in Illinois and five interchanges in Iowa.

Corridor improvements are considered necessary to improve safety and to accommodate future traffic demand. The proposed improvements are expected to include mainline capacity enhancements, interchange modifications, and the realignment of I-74 across the Mississippi River. Alternatives under consideration include: (1) Taking no action; (2) employing low-cost measures (such as traffic management, incident management, additional transit service, and van and carpool efforts); and (3) realigning and widening I-74 across the Mississippi River, which may include providing auxiliary lanes between interchanges or an additional through lane in each direction, and reconfiguring existing service interchanges. Changes in grade, alignment, river crossing location, and ramp terminal locations will be evaluated.

Letters describing the proposed action and soliciting comments will be sent to appropriate federal, state, and local agencies, and to private organizations and citizens who have previously expressed interest in or are known to be interested in this proposal. A series of public meetings will be held in Moline, Illinois, and Bettendorf, Iowa, during 2001 and 2002. In addition, a public hearing will be held. Public notice will be given of the time and place of the meetings and hearing. The draft EIS will be available for public and agency review and comment prior to the public hearing. A scoping meeting will be held for identifying significant issues to be addressed in the environmental impact statement.

To ensure that the full range of issues related to this proposed action are addressed and all significant issues identified, comments and suggestions are invited from all interested parties. Comments or questions concerning this proposed action and the EIS should be directed to the Iowa Department of Transportation or FHWA at the address provided in the caption FOR FURTHER INFORMATION CONTACT.

(Catalog of Federal Domestic Assistance Program Number 20.205, Highway Planning and Construction. The regulations implementing Executive Order 12372 regarding intergovernmental consultation of Federal programs and activities apply to this program.)

(Authority: 23 U.S.C. 315; 49 CFR 1.48)

Dated: January 12, 2001.
Bobby W. Blackmon,
Division Administrator.

[FR Doc. 01-2156 Filed 1-23-01; 8:45 am]

BILLING CODE 4910-22-P